DEPARTMENT OF THE INTERIOR

Bureau of Land Management

[CA-110]

Meeting of the Central California Resource Advisory Council

ACTION: Notice of public meeting.

SUMMARY: In accordance with the Federal Land Policy and Management Act (FLPMA) and the Federal Advisory Committee Act of 1972 (FACA), the U.S. Department of the Interior, Bureau of Land Management (BLM) Central California Resource Advisory Council (RAC) will meet as indicated below.

DATES: The meeting will be held Friday and Saturday, October 26 and 27, 2007, at the Holiday Inn Express, 189 Seaside Avenue, Marina, California. In addition, the RAC will hold an orientation session for new members from 3 p.m. to 5 p.m. on October 25, 2007, at the same location. On October 26, the RAC will convene at 8 a.m. for a business meeting, followed by a field trip to Fort Ord beginning at noon. Members of the public are welcome to attend the tour and meeting. Field tour participants must provide their own transportation and lunch. The RAC will resume its meeting at 8 a.m. on October 27 in the Holiday Inn Express meeting room. Time for public comment is reserved from 9:30 a.m. to 11:30 a.m. on October 27.

FOR FURTHER INFORMATION CONTACT: BLM Hollister Field Office Manager Rick Cooper, (831) 630-5010; or BLM Central California Public Affairs Officer David Christy, (916) 985-4474.

SUPPLEMENTARY INFORMATION: The twelve-member Central California RAC advises the Secretary of the Interior, through the BLM, on a variety of public land issues associated with public land management in Central California. At this meeting, agenda items include discussion of issues at Fort Ord and at the Clear Creek Management Area. The RAC will also hear status reports from BLM managers for the Folsom, Hollister, Bakersfield and Bishop field offices. The meeting is open to the public. The public may present written comments to the RAC, and time will be allocated for hearing public comments. Depending on the number of persons wishing to comment and the time available, the time for individual oral comments may be limited. Individuals who plan to attend and need special assistance such as sign language interpretation or other reasonable accommodations should contact the BLM as indicated above.

Charge Code: CA 110-1820-XX.

Dated: September 6, 2007.
David Christy,
Public Affairs Officer.

[FR Doc. E7-18313 Filed 9-17-07; 8:45 am]

BILLING CODE 1820-XX-P